INTERNATIONAL TRADE COMMISSION

[USITC SE-11-014]

Government in the Sunshine Act Meeting Notice

AGENCY HOLDING THE MEETING: United States International Trade Commission.

TIME AND DATE: June 13, 2011 at 1 p.m.

PLACE: Room 110, 500 E Street, SW., Washington, DC 20436. Telephone: (202) 205-2000.

STATUS: Open to the public.

MATTERS TO BE CONSIDERED: 1. Agendas for future meetings: None.

2. Minutes.

3. Ratification List.

4. Vote in Inv. No. 731-TA-669 (Third Review) (Cased Pencils from China). The Commission is currently scheduled to transmit its determination and Commissioners' opinions to the Secretary of Commerce on or before June 24, 2011.

5. Outstanding action jackets: None.

In accordance with Commission policy, subject matter listed above, not disposed of at the scheduled meeting, may be carried over to the agenda of the following meeting. Earlier announcement of this meeting was not possible.

By order of the Commission:
Issued: June 7, 2011.
James R. Holbein,
Secretary to the Commission.

[FR Doc. 2011-14471 Filed 6-7-11; 4:15 pm]

BILLING CODE 7020-02-P